ENVIRONMENTAL PROTECTION AGENCY

40 CFR Part 52

[PA-4135a; FRL-7049-5]

Approval and Promulgation of Air Quality Implementation Plans; Pennsylvania; VOC and NOX RACT Determinations for 14 Individual Sources in the Philadelphia-Wilmington-Trenton Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for 14 major sources of volatile organic compounds (VOC) and/or nitrogen oxides (NOX) located in the Philadelphia-Wilmington-Trenton ozone nonattainment area (the Philadelphia area). EPA is approving these revisions in accordance with the Clean Air Act (CAA).

DATES: This rule is effective on October 22, 2001 without further notice, unless EPA receives adverse written comment by October 9, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and the Pennsylvania Department of Environmental Protection, Bureau of Air Quality Control, P.O. Box 8468, 400 Market Street, Harrisburg, Pennsylvania 17105.

FOR FURTHER INFORMATION CONTACT: Ray Chalmers at (215) 814-2061, or by e-mail at chalmers.ray@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) All sources covered by a CTG issued prior to November 15, 1990; (3) All other major non-CTG rules were due by November 15, 1992. The Pennsylvania SIP has approved RACT regulations and requirements for all sources and source categories covered by the CTGs.

On February 4, 1994, PADEP submitted a revision to its SIP to require major sources of NOX and additional major sources of VOC emissions (not covered by a CTG) to implement RACT. The February 4, 1994 submittal was amended on May 3, 1994 to correct and clarify certain presumptive NOX RACT requirements. In the Philadelphia area, a major source of VOC is defined as one having the potential to emit 25 tons per year (tpy) or more, and a major source of NOX is also defined as one having the potential to emit 25 tpy or more. Pennsylvania's RACT regulations require sources, in the Philadelphia area, that have the potential to emit 25 tpy or more of VOC and sources which have the potential to emit 25 tpy or more of NOX to comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by-case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrates that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status in the Philadelphia area. Once EPA has approved the case-by-case RACT determinations submitted by PADEP to satisfy the conditional approval for subject sources located in Bucks, Chester, Delaware, Montgomery and Philadelphia Counties; the limited approval of Pennsylvania's generic VOC and NOX RACT regulations shall convert to a full approval for the Philadelphia area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as a SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call regulations. On August 10, 2001, EPA signed its final rule approving the Commonwealth's NOX SIP call regulations as a SIP revision and expects it to be published in the Federal Register in the near future. Federal approval of a case-by-case RACT determination for a major source of NOX in no way relieves that source from any applicable requirements found in 25 PA Code Chapters 121, 123 and 145.

II. Summary of the SIP Revisions

On December 8, 1995, March 21, 1996, January 21, 1997, July 24, 1998, April 20, 1999, March 23, 2001 (two separate submissions), and July 5, 2001; PADEP submitted revisions to the Pennsylvania SIP to establish and impose RACT for several major sources of VOC and/or NOX. This rulemaking pertains to fourteen (14) of those sources. The remaining sources are or have been the subject of separate rulemakings. These sources are all located in the Philadelphia area. The table below identifies the sources and the individual plan approvals (PAs) or operating permits (OPs) in which RACT has been imposed. A summary of the VOC and NOX RACT determinations for each source follows the table.

Pennsylvania—VOC and NOX RACT Determinations for Individual Sources
Source | County | PA # or OP # | Source type | Pollutant
Perkasie Industries | Bucks | OP-09-0011 | Lighting Fixture Production | VOC
Quaker Chemical Corporation | Montgomery | OP-46-0071 | Specialty Chemicals Producer | VOC & NOX
Rohm and Haas—Bucks County Plant | Bucks | OP-09-0015 | Chemical Producer | VOC & NOX
Rohm and Haas—Philadelphia Plant | Philadelphia | PA-51-1531 | Chemical Producer | VOC & NOX
SBF Communications Graphics | Philadelphia | PA-2197 | Printing Facility | VOC
Schlosser Steel, Inc | Montgomery | OP-46-0051 | Structural Steel Products | VOC
SEPTA's Berridge/Courtland Maintenance Shop | Philadelphia | PA-51-4172 | Bus Repair & Maintenance Facility | VOC
Smith-Edwards-Dunlap Company | Philadelphia | PA-2255 | Printing Facility | VOC
Southwest Water Pollution Control Plant/Biosolids Recycling Center | Philadelphia | PA 51-9515 | Wastewater Treatment Plant | VOC & NOX
Stroehman Bakeries, Inc | Montgomery | PA-46-0003 | Bakery | VOC
Sunoco, Inc. (R&M) Refinery | Philadelphia | PA-1501/1517 | Refinery | VOC & NOX
Tasty Baking Company | Philadelphia | PA-2054 | Bakery | NOX
Transcontinental Gas Pipeline Corp.—Compressor Station #200 | Chester | PA-15-0017 | Natural Gas Compressor Station | VOC & NOX
Worthington Steel Company | Chester | OP-15-0016 | Steel Product Producer | VOC & NOX

A. Perkasie Industries Corporation

Perkasie Industries Corporation (Perkasie), located in Bucks County, Pennsylvania, manufactures fluorescent lighting fixtures. Perkasie is a major source of VOC. The manufacturing installations and processes at this source are subject to category specific SIP-approved RACT requirements adopted by the Commonwealth in accordance with the applicable CTGs. The clean -up operations require a case-by-case RACT determination. The PADEP issued OP-09-0011 to Perkasie on August 14, 1996 to establish RACT. In OP-09-0011, Pennsylvania imposed work practice standards and limited the VOC emissions from the clean-up operations to less than 3 pounds per hour, 15 pounds per day, and 2.7 tons per year. Under OP-09-0011, Perkasie is required to use EPA approved test methods to determine the VOC properties of all coatings as described in 25 Pa Code 139, and to meet the recordkeeping and reporting requirements of 25 Pa Code 129.95.

B. Quaker Chemical Corporation

Quaker Chemical Corporation (Quaker), located in Montgomery County, Pennsylvania, is a batch process specialty chemicals manufacturing facility. Quaker manufactures approximately 400 different intermediate and final proprietary products through blending and/or reacting of raw materials in process vessels. Quaker is a major source of NOX and VOC. The majority of the manufacturing installations and processes at this source are subject to category specific SIP-approved VOC RACT requirements adopted by the Commonwealth in accordance with the applicable CTGs and to SIP-approved presumptive RACT requirements to control NOX. Other small installations and processes require a case-by-case RACT determination. Pennsylvania issued permit OP-46-0071 to Quaker to impose RACT. The equipment which has the potential to emit small amounts of VOCs includes a pilot plant, laboratory hoods, Building #4 material storage vessels, fuel oil storage tanks, the B and C tank farms, the sparkler filter mixing system, and combustion units. OP-46-0071 requires that Quaker keep the following information for these sources: (1) The throughput or usage of each chemical processed, (2) the VOC contents of the chemicals and their Material Safety Data Sheets (MSDS), (3) the quantity of coatings applied through the spray booth, the composition of those coatings and their MSDS, and (4) any other data or records required to conform to 25 Pa. Code 129.95(e). The NOX emitting units covered by OP-46-0071 include Boilers House Boilers No.1 and 2, each rated at 29.4 MMBtu/hr firing natural gas and NO. 6 fuel oil; several small combustion units, rated from 5MMBtu/hr to 0.3 MMBtu/hr, which fire natural gas only; the Administration Building Generator, rated at 1.4 MMBtu/hr firing natural gas; and the Fire Pump with a rated capacity of 150 hp firing diesel. OP-46-0071 requires that Boiler House Boilers No. 1 and 2 be maintained as follows: (1) An annual adjustment must be performed including inspection, adjustment, cleaning or replacement of the fuel burning equipment (the burners and all moving parts) necessary for operation in accordance with manufacturer's specifications, (2) an inspection must be performed of the flame pattern or characteristics and adjustments made necessary to minimize total emissions of NOX, (3) an inspection must be performed of the air-to-fuel ratio control system and adjustments made to ensure the proper calibration and operation as specified by the manufacturer. Quaker must keep a permanent log book of the maintenance procedures performed including: (1) The date of the procedure, (2) the name of the service company and technicians, (3) the final operating rate or load, (4) the final NOX and carbon monoxide emission rates, and (5) the final excess oxygen. Fuel records must be maintained for fuel used in these boilers including: (1) certification from the supplier of the type of fuel and its nitrogen content, and (2) identification of the sampling method and sampling protocol. The operation of the Administration Building Generator and the fire pump must not exceed 500hrs/year each. The company must operate and maintain all these units in accordance with the manufacturer's specifications and good air pollution control practices.

C. Rohm and Haas

Rohm and Haas, located in Bucks County, Pennsylvania is a diverse chemical manufacturing facility with a variety of continuous and batch type processes. It is a major source of NOX and VOC. The majority of the manufacturing installations and processes at this source are subject to category specific SIP-approved VOC RACT requirements adopted by the Commonwealth in accordance with the applicable CTGs and to SIP-approved presumptive RACT requirements to control NOX. Other installations and processes require a case-by-case RACT determination. The PADEP issued Rohm and Haas OP-09-0015 to impose RACT. The company's VOC and NOX emission sources are located in the following six areas: Emulsions Area, AtoHaas Area, Polymers Area, Plastics Additives Area, Facilities Area, and Bristol Research Park. The units or processes in these areas include, but are not limited to: polymerization reactors, monomer emulsion tanks, additive tanks, mix tanks, storage tanks, wastewater collection tanks, blend tanks, drain tanks, transfer piping, whitewater pits, pelletizers, kettles, inhibitor mix tanks, a cold methyl methacrylate transfer station, distillation vacuum jets, tank truck loading, railcar loading, and bulk loading operations. Pennsylvania identified and determined RACT for these numerous units and/or processes. Pennsylvania specified that RACT for VOC emitting units or processes which already vent to existing scrubbers or incinerators is continued use of the scrubbers or incinerators. Pennsylvania also required the Company to vent additional units or processes to the existing scrubbers or incinerators, and specified that RACT for these units or processes also consists of use of the scrubbers or incinerators. For the fugitive VOC emissions, Pennsylvania specified that RACT consists of use of good operating practices and a visual leak detection and repair program. Pennsylvania established short term and annual VOC limits on the combined equipment and/or processes in each area, and also on the numerous individual units or processes. Pennsylvania identified four boilers located in the Facilities Area as the most significant sources of NOX emissions. Pennsylvania specified that RACT for two of the boilers is use of low NOX burners and that the other two boilers are to be operated only as emergency standby units. OP-09-0015 imposes a NOX emission limit of 0.47 lbs of NOX/MMBtu on all four boilers. OP-09-0015 imposes extensive testing and recordkeeping requirements accordance with the applicable SIP-approved regulations as necessary to determine compliance. It imposes extensive, specific conditions for the monitoring of the operational parameters of the process and air pollution control equipment at the facility.

D. Rohm and Haas

Rohm and Haas also has a plant located in Philadelphia, Pennsylvania which manufactures chemical products used for industrial and water treatment operations and for pest control. The facility is a major source of NOX and VOC. The majority of the manufacturing installations and processes at this source are subject to category specific SIP-approved VOC RACT requirements adopted by the Commonwealth in accordance with the applicable CTGs and to SIP-approved presumptive RACT requirements to control NOX. Other installations and processes require a case-by-case RACT determination. The Philadelphia Air Management Services (AMS) issued Rohm and Haas PA-51-1531 to establish RACT. The PADEP submitted PA-51-1531 to EPA as a SIP revision on behalf of the AMS. The facility has a large variety of units or processes that emit VOC. The units or processes which are the most significant sources of VOC include the Building #21, #R-12, #26, #85, #R-11, #80, and #34 vents, the vacuum distillation vent from the cation bead production process, the Semiworks Kathon area vents, the consolidated Goal process, and fugitive leaks. There are emission controls in place for many of these sources including consolidated Goal process scrubbers #U-526, #U-585, #U-588, and #U-594, the #R-11 Wyssmont scrubber, the Building #80 Amines scrubber, the Building #85 methanol wash scrubber, the Building #34 afterburner, the MMA Tank Car Conservation Vent, and a non-contact chilled water condenser. PA-51-1531 requires the use of this control equipment as RACT. PA-51-1531 specifies the following VOC RACT emissions limits:

Source | VOC (lbs/hour) | VOC (tons/year) (calculated for a rolling 12 month period)
U-526 Scrubber | 1.0 | 1.0
U-585 Scrubber | 0.5 | 0.2
U-588 Scrubber | 0.5 | 1.0
U-594 Scrubber | 21.5 | 6.5
Building R11 Wyssmont Scrubber | 7 | 6
Building R11 Vent Group 4 Condenser | 8 | 6
Building 85 Methanol Washing Scrubber | 15 | 1
Building 21 Multiproducts Area |  | 7
Building R12 Multiproducts Area |  | 12.5
Semi-works Kathon Area |  | 8
Building 26 Tritons Area |  | 4.2

The PA also requires the Company to implement a visual leak detection and repair (LDAR) program for fugitive emissions from the Goal production area and for fugitive emissions from transfer piping in the Building #85 separations area. Under the LDAR monitoring of all components will be conducted on a quarterly basis. PA-51-1531 requires Rohm and Haas to submit a quarterly Fugitive Emissions Monitoring Report which includes (1) the number of leaks by type of equipment occurring within each process unit during the reporting period, (2) the number of leaks that could not be repaired within 15 days, (3) the reason for unsuccessful or delayed repair beyond 15 days, (4) the percent leak by equipment type within each process unit and for the total covered processes, (5) a list of all process units not monitored during the quarter because the process was not in operation for the whole quarter, (6) the lists of actual components found leaking in each process unit, and (7) a list of the changes that remove change, or add process equipment (except for minor piping changes) to the fugitive emission program. Testing and recordkeeping/reporting requirements have been imposed in accordance with SIP-approved regulations necessary to determine compliance with the RACT requirements. The facility's sources of NOX emissions subject to case-by-case NOX RACT requirements consist of three boilers, each with a heat capacity of 120 MMBtu per hour. Although these boilers have been shutdown, the AMS did determine and impose RACT for them, in the event that Rohm and Haas seeks emission reduction credits from the shutdown. PA 51-1531 specifies that NOX RACT for these three boilers consists of installation of low NOX burners, burner cap trials, and the elimination of waste solvent burning. PA 51-1531 limits the NOX emissions from each boiler to 204 tons per twelve month rolling period and limits the total NOX emissions from all three boilers to 612 tons per rolling twelve month period.

E. SBF Communication Graphics

SBF Communication Graphics (SBF), located in Philadelphia, Pennsylvania is a printing facility. It is a major source of VOC. The AMS issued PA-2197 to SBF, and the PADEP submitted it to EPA as a SIP revision. SBF is equipped with 8 non-heatset web offset lithographic printing presses and with 3 heatset web offset lithographic printing presses. These presses produce most of the facility's VOC emissions. The AMS determined that material substitution, i.e., the use of inks, fountain solutions and cleaning solutions with lower VOC contents, constitutes RACT. The PA specifies specific VOC content limitations, by weight, for inks, fountain solutions, and cleaning solutions used at SBF. The PA specifies that the VOC fraction of the ink (minus water), as applied to the substrate, shall not exceed 25% by weight. It requires that the VOC content of the fountain solution, as applied, shall be maintained at or below 5.0 percent by weight, and it shall contain no alcohol. Finally, the PA specifies that cleaning solutions shall either: (1) have a VOC content less than or equal to 30 percent by weight, or (2) have a VOC composite partial pressure, as used, less than or equal to 10 mm Hg at 68 degrees F, or 3) have a total usage which does not exceed 55 gallons over any 12-month rolling period. The PA imposes extensive and specific recordkeeping and reporting requirements necessary to determine compliance with the VOC RACT requirements.

F. Schlosser Steel, Inc.

Schlosser Steel, Inc., located in Montgomery County, Pennsylvania supplies structural steel products. The facility includes coating operations which make it a major source of VOC. The majority of the installations and processes at this source are subject to category specific SIP-approved regulations adopted by Pennsylvania in accordance with the applicable CTG(s). For other installations and processes, the PADEP has imposed case-by-case RACT in OP-46-0051. OP-46-0051 limits VOC emissions from parts washing and cleaning operations be less than 3 pounds per hour, 15 pounds per day, and 2.7 tons per year. It requires that the company train its personnel in proper use of equipment which generates VOCs, establish a cleaning solvent accounting system, and conduct a leak inspection and maintenance plan. The PADEP has imposed the testing, recordkeeping and reporting requirements necessary to demonstrate compliance with all applicable SIP-approved RACT regulations including 25 Pa Code 129.52 and 129.91-95.

G. SEPTA's Berridge/Courtland Maintenance Shop

The Southeastern Pennsylvania Transportation Authority's (SEPTA's) Berridge/Courtland Maintenance Shop, located in Philadelphia, Pennsylvania, repairs and maintains buses. The shop is a major source of VOC. The major of the VOC emitting installations and processes at this source are subject to category specific SIP-approved RACT requirements adopted in accordance with the applicable CTG(s). For other installations and processes, the Philadelphia AMS issued PA-51-4172 to establish RACT. The PADEP submitted PA-51-4172 to EPA has a SIP revision on behalf of AMS. The AMS established RACT on a case-by-case basis for the shop's spray booths, lithographic presses, and the silk screen shop. With respect to spray booth operations, PA-51-4172 specifies that SEPTA must ensure that HVLP type spray guns are utilized in all spraying operations and that spray guns are cleaned with a device that collects spent solvent for proper disposal and minimizes solvent emission during and between cleaning. For the lithographic presses, PA-51-4172 specifies that SEPTA shall use a fountain solution and water mixture with a VOC content no greater than 5% by weight unchilled or 8% by weight chilled to 55 degrees F. PA-51-4172 also specifies that any cleaning solution used for blanket and roller cleaning on a sheet-fed offset lithographic press shall have: (1) A VOC content, as applied, less than or equal to 30 percent by weight, or (2) a VOC composite partial vapor pressure, as used, less than or equal to 10 mm Hg at 68 degrees F. For degreasers not covered by SIP-approved 25 Pa Code 129.63, PA-51-4172 requires that “all containers containing VOC materials shall be covered when not in use; cleaned parts shall be thoroughly drained before removal; a permanent label shall be posted for operating requirements; solvent shall be transferred so as to keep evaporation below 20%; and, waste solvent shall be stored in covered containers. PA-51-4172 imposes the recordkeeping and reporting requirements necessary to determine compliance with all SIP-approved RACT regulations including 25 Pa Code 129.91-129.94.

H. Smith-Edwards-Dunlap, Company

The Smith-Edwards-Dunlap, Company, located in Philadelphia, Pennsylvania, prints poster boards, letterheads, business cards, etc. The facility is a major source of VOCs. The Philadelphia AMS issued PA-2255 to Smith-Edwards-Dunlap, Company to establish RACT. The PADEP submitted PA-2255 to EPA has a SIP revision on behalf of AMS. The units at the facility which emit VOCs are 13 lithographic printing presses. The PA specifies that VOC RACT for these presses is materials substitution to the use of inks, fountain solutions, and cleaning solutions with lower VOC contents. The permit requires that the VOC fraction of the ink (minus water), as applied to the substrate, shall not exceed 25% by weight. The permit also requires that the VOC fraction of all fountain solutions shall not exceed 20% by volume. Finally, the permit requires that each cleaning solution used in quantities of 55 gallons or more over any rolling twelve month period have a VOC content, as applied, of less than or equal to 30% by weight, or a VOC composite partial vapor pressure, as used, of less than or equal to 10 mm Hg at 68 degrees F. PA-2255 imposes the extensive recordkeeping and reporting requirements necessary to demonstrate compliance with the RACT determinations and 25 Pa Code 129.91 -129.94.

I. Southwest Water Pollution Control Plant/Biosolids Recycling Center

The Philadelphia Water Department's Southwest Water Pollution Control Plant/Biosolids Recycling Center is a publicly owned waste water treatment plant and biosolids recycling center. The facility is a major source of NOX and VOC. The majority of the installations and processes at this source are subject to category specific, or presumptive SIP-approved RACT requirements. For other VOC emitting installations and processes, the Philadelphia AMS issued PA 51-9515 to the facility to impose RACT. The facility emits VOCs from both the Biosolids Recycling Center (i.e., composting) operation and the wastewater treatment process. PA 51-9515 requires that the Biosolids Recycling Center compost pile aeration blower exhausts be vented to biofilters. PA 51-9515 requires that the excess gas produced by the wastewater treatment process's anaerobic digestion of sludge be flared through waste gas burners. It also specifies that the wastewater treatment process adhere to its approved good maintenance and operation program, and that the composting operation adhere to good maintenance and operation of the existing biofilters and of the compost pile aeration system. PA 51-9515 imposes extensive testing requirements for VOC from its wastewater using EPA Method 624 and the “TOXCHEM+” computer program. PA 51-9515 also imposes extensive recordkeeping and reporting requirements as necessary to determine compliance with all SIP-approved RACT regulations including 25 Pa Code 129.91—129.94.

J. Stroehman Bakeries, Inc.

Stroehman Bakeries, Inc., located in Montgomery County, Pennsylvania produces a variety of breads, rolls, and buns. The bakery is a major source of VOC. The bakery generates ethanol, a VOC, because of the yeast used to produce the baked goods during the baking process. The PADEP issued Stroehman Bakeries PA-46-0003 to establish RACT. PA-46-0003 specifies that RACT for the bread oven and for the roll and bun oven is use of use of a catalytic oxidizer with a minimum inlet temperature of 550 degrees F. PA-46-0003 imposes VOC emissions limits of 3.1lbs/hr and 13.7 tpy from the bread oven and 1.2lbs/hr and 5.4 tpy from the roll and bun oven. PA-46-0003 requires source testing in accordance with 25 Pa Code 139 and imposes additional testing conditions to demonstrate compliance. PA-46-0003 requires that the test(s) results be reported to PADEP and that all records be for a period of not less than two years.

K. Sunoco, Inc. (R&M)

Sunoco, Inc. (R&M) operates a refinery located in Philadelphia, Pennsylvania. The refinery is a major NOX and VOC emitting facility. The majority of the installations and processes at this source are subject to category specific SIP-approved VOC regulations adopted by Pennsylvania in accordance with the applicable CTG(s), and to SIP-approved presumptive RACT requirements to control NOX. For other installations and processes, the AMS issued PA-1501/1517 to establish RACT. The PADEP submitted PA-1501/1517 to EPA as a SIP revision on behalf of AMS. PA-1501/1517 imposes NOX RACT requirements for the # 868 Fluid Catalytic Cracking Unit (FCCU) regenerator and for numerous heaters and boilers. PA-1501/1517 specifies that RACT for the FCCU consists of good combustion practices and limits the NOX emissions from the #868 FCCU to 569 tons per year on a rolling 365 day basis. PA-1501/1517 also includes case-by-case RACT determinations for numerous boilers and heaters. The permit specifies that NOX RACT for six units: the H-1 heater at Unit 433, the B-104 heater at Unit 1232, and Boilers #37, #38, #39, and #40 at the #3 Boilerhouse, is the use of ultra-low NOX burners. The permit specifies that RACT for the remaining combustion sources is combustion tuning. The permit also specifies NOX emissions limits for all of these units. For certain units, the permit also specifies maximum heat input limits. The NOX RACT limitations for the heaters and boilers are shown in the table below:

Unit | Limit when burning gas (lbs. NOx/MMBTU | Limit when burning oil (lbs. NOx/MMBTU | Heat input cap (MMBTU/hour)
#3 Boiler House—#37, #38, #39 and #40 Boilers | 0.330 | 0.330 | 495 MMBTU/hour for Boilers #37, #38, and #39. 660 MMBTU/hour for Boiler #40
#22 Boiler House—#1, #2, and #3 Boilers | 0.20 | NA | NA
Heater F-1 @ Unit 137 | 0.230 | 0.230 | 415
Heater F-2 @ Unit 137 | 0.257 | 0.4 | 155
Heater F-3 @ Unit 137 | NA | 0.4 | NA
Heater H101 @ Crude Unit 210A | 0.089 | 0.4 | NA
Heater H201 @ Crude Unit 210B | 0.173 | 0.4 | 242
Heater 13H1 @ Crude Unit 210C | 0.104 | 0.4 | NA
Heater B-101 @ Unit 231 | 0.122 | NA | 91
Process Heater H-1 @ Unit 433 | 0.060 | NA | 243
Heater 1H-1 @ Unit 859 | 0.123 | 0.4 | 76
Heater 1H-2 @ Unit 859 | 0.123 | 0.4 | 70
Heater 1H3 @ Unit 859 | 0.134 | 0.4 | NA
Heater 2H-2 @ Unit 860 | 0.350 | 0.4 | NA
Heater 2H-3 @ Unit 860 | 0.163 | 0.4 | NA
Heater 2H-4 @ Unit 860 | 0.270 | 0.4 | NA
Heater 2H-5 @ Unit 860 | 0.163 | 0.4 | NA
Heater 2H-7 @ Unit 860 | 0.157 | 0.4 | NA
Boiler 2H-9 @ Unit 860 | 0.20 | 0.20 | NA
Heater 3H1N @ Hydrogen Plant 861 | 0.133 | NA | 125
Heater 3H1S @ Hydrogen Plant 861 | 0.133 | NA | 123
Heater PH-1 @ Unit 864 | 0.167 | 0.4 | NA
Heater PH-3 @ Unit 864 | 0.284 | 0.4 | 80
Heater PH-4 @ Unit 864 | 0.102 | 0.4 | 57
Heater PH-5 @ Unit 864 | 0.283 | 0.4 | 90
Heater PH-11 @ Unit 864 | 0.145 | 0.4 | NA
Heater PH-12 @ Unit 864 | 0.119 | 0.4 | NA
Heater 11-H1 @ Unit 865 | 0.113 | 0.4 | NA
Heater B-104 @ Unit 1232 | 0.177 | NA | 70
Process Heater H-400 @ Unit 1332 | 0.156 | NA | 186
Process Heater H-401 @ Unit 1332 | 0.156 | NA | NA
Heater H-2 @ Unit 1332 | 0.300 | NA | NA

The facility emits fugitive VOC emissions from valves, pumps, flanges, compressors in VOC service and from cooling towers. PA-1501/1517 specifies that Sunoco must utilize an emissions leak detection and repair (LDAR) program as RACT to reduce emissions from the valves, pumps, flanges and compressors in VOC service, and conduct an inspection and maintenance/monitoring program as RACT to reduce fugitive VOC emissions from cooling towers. PA-1501/1517 imposes the recordkeeping and reporting requirements necessary to determine compliance with its VOC and NOX RACT requirements in accordance with 25 Pa Code 129.91-129.94.

L. Tasty Baking Company

The Tasty Baking Company is located in Philadelphia, Pennsylvania. The bakery is a major source of NOX emissions. The bakery does not generate VOC because it does not use yeast in its baking process. The small boilers at this source are subject to specific SIP-approved presumptive RACT requirements. The Philadelphia AMS issued PA-2054 to establish RACT an Alison 501-KB5 gas turbine rated at 45.4 MMBtu/hr. The PADEP submitted PA-2054 to EPA as a SIP revision on behalf of AMS. PA-2054 specifies that NOX RACT for this gas turbine consists of the use of water injection, and establishes NOX emission limits 10 lbs/hr and 44 tpy. PA-2054 imposes the testing, recordkeeping and reporting requirements necessary to demonstrate compliance with its RACT requirements in accordance with 25 Pa Code 129.91-129.94.

M. Transcontinental Gas Pipeline Corp.—Compressor Station #200

Transcontinental Gas Pipeline Corporation operates a natural gas compressor station, designated as Station #200, in Chester County, Pennsylvania. Station 200 is a major NOX and VOC emitting facility. Many of the installations and processes at this source are subject to specific SIP approved, or presumptive RACT requirements. For other installations and processes, PADEP imposes RACT requirements in PA-15-0017. The facility is equipped with 13 natural gas fueled reciprocating engines. PADEP determined that RACT for these 13 engines consists of the use of low emission combustion (LEC) equipment modifications. LEC equipment modifications include installation or modification of turbochargers, aftercoolers, inlet air systems, exhaust systems, power cylinder heads, fuel gas systems, ignition systems, cooling water systems, pistons, cylinder liners and camshafts. In addition to these equipment specifications, PA-15-0017 also imposes the following NOX and VOC emissions limits:

Unit # | Model | NOX emissions limit (lb/hour) | VOC emissions limit (lb/hour)
1 to 6 (Post RACT horsepower 2050) | BA-8T | 18.1 | 9.0
7 to 9 and 13 (Post RACT horsepower 2100) | TLA-6 | 18.54 | 9.2
10 to 11 (Post RACT horsepower 3400) | TCV-10 | 30.0 | 14.9
12 (Post RACT horsepower 5500) | TCV-16 | 48.56 | 24.1

PA-15-0017 also includes the testing, recordkeeping and reporting conditions necessary to demonstrate compliance with its RACT requirements.

N. Worthington Steel Company

Worthington Steel Company's Malvern Plant, located in Chester County, Pennsylvania, is a steel processing and painting facility. The facility is a major source of NOX and VOC emissions. Many of the installations and processes at this source are subject to category-specific SIP approved, or presumptive RACT requirements. For the coil coating line (including clean-up operations) and the 23 Safety Kleen cold cleaners, PADEP issued OP-15-0016 to establish RACT. For the coil coating operation, OP-15-0016 restricts the VOC content of each coating to 2.6 lbs/gallon (minus water) as applied to the substrate. OP-15-0016 also requires that the clean-up solvent used at the coil coating equipment shall not result in VOC emissions in excess of pounds per hour, 15 pounds per day, and 2.7 tons per year. OP-15-0016 restricts the clean-up solvent used in its cold cleaners shall not result in VOC emissions in excess of 3 lbs/hr, 15 lbs/day and 2.7 tpy. OP-15-0016 requires the recordkeeping and reporting requirements necessary to determine compliance with 129.91-129.95.

There are 65 small NOX emitting units (space heaters, small boilers, and process annealing furnaces) that fire natural gas (units designated as C1-C41; C47—C51; and C55-C65), No. 2 fuel oil (C42-C46), or a combination of natural gas/fuel oil (C52-C54). These small units range in size from a rated heat input of less than 0.13 MMBtu/hr to 10.46 MMBtu/hr. Thirty-nine (39) of the 65 units are rated at less than 1MMBtu/hr, 22 are rated at or below 4MMBtu/hr, and 4 are rated from 6.27 to 10.46 MMBTU. OP-15-0016 requires that these units be operated and maintained done in accordance with manufacturer's specifications and good air pollution control practices which is consistent with the SIP-approved presumptive RACT requirements set forth in 25 Pa. Code Section 129.93(c)(1). Forty-seven (47) of these 65 small NOX emitting units are limited to 4380 hours of operation per year.

III. EPA's Evaluation of Pennsylvania's SIP Revisions

EPA is approving these SIP submittals because the Philadelphia AMS and PADEP established and imposed these RACT requirements in accordance with the criteria set forth in the SIP-approved RACT regulations applicable to these sources. The AMS and PADEP have also imposed recordkeeping, monitoring, and/or testing requirements sufficient to determine compliance with the applicable RACT determinations.

IV. Final Action

EPA is approving the SIP revisions to the Pennsylvania SIP submitted by PADEP to establish and require VOC and/or NOX RACT for 14 major of sources located in the Philadelphia area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 22, 2001 without further notice unless EPA receives adverse comment by October 9, 2001. If EPA receives adverse comment, EPA will publish a timely withdrawal in the Federal Register informing the public that the rule will not take effect. EPA will address all public comments in a subsequent final rule based on the proposed rule. EPA will not institute a second comment period on this action. Any parties interested in commenting must do so at this time. Any parties interested in commenting must do so at this time. Please note that if adverse comment is received for a specific source or subset of sources covered by an amendment, section or paragraph of this rule, only that amendment, section , or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for 14 named sources.

C. Petitions for Judicial Review

Under section 307(b)(1) of the Clean Air Act, petitions for judicial review of this action must be filed in the United States Court of Appeals for the appropriate circuit by November 5, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and NOX from 14 individual sources in Pennsylvania may not be challenged later in proceedings to enforce its requirements. (See section 307(b)(2).)

List of Subjects in 40 CFR Part 52

Environmental protection, Air pollution control, Hydrocarbons, Incorporation by reference, Nitrogen dioxide, Ozone, Reporting and recordkeeping requirements.

Dated: August 28, 2001.
Thomas C. Voltaggio,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(169) to read as follows:

§ 52.2020 Identification of plan.

* * * * *

(c) * * *

(169) Revisions to the Pennsylvania Regulations, Chapter 129 pertaining to VOC and/or NOX RACT for 14 sources located in the Philadelphia-Wilmington-Trenton area, submitted by the Pennsylvania Department of Environmental Protection on December 8, 1995, March 21, 1996, January 21, 1997, July 24, 1998, April 20, 1999, March 23, 2001 (two separate submissions), and July 5, 2001.

(i) Incorporation by reference.

(A) Letters submitted by the Pennsylvania Department of Environmental Protection transmitting source-specific VOC and/or NOX RACT determinations, in the form of plan approvals, operating permits, or compliance permits on December 8, 1995, March 21, 1996, January 21, 1997, July 24, 1998, April 20, 1999, March 23, 2001 (two separate submissions), and July 5, 2001.

(B) Plan approvals (PA), or Operating permits (OP) issued to the following sources:

(1) Stroehmann Bakeries, Inc., PA-46-0003, effective on May 4, 1995, except for the expiration date.

(2) Schlosser Steel, Inc., OP-46-0051, effective February 1, 1996, except for the expiration date.

(3) Perkasie Industries Corporation, OP-09-0011, effective August 14, 1996, except for the expiration date.

(4) Quaker Chemical Corporation, OP-46-0071, effective September 26, 1996, except for the expiration date.

(5) Worthington Steel Company, OP-15-0016, effective July 23, 1996, except for the expiration date.

(6) Transcontinental Gas Pipeline Corp., PA-15-0017, effective June 5, 1995, except for the expiration date.

(7) Rohm and Haas Company, Bucks County Plant, OP-09-0015, effective April 20, 1999, except for the expiration date.

(8) SEPTA—Berridge/Courtland Maintenance Shop, PA-51-4172, effective July 27, 1999, except for condition 2.C. and condition 5.

(9) Southwest Water Pollution Control Plant/Biosolids Recycling Center, PA-51-9515, effective July 27, 1999, except for condition 1.A.(1), condition 1.A.(2), condition 2.A., condition 2.B., and condition 7.

(10) Rohm and Haas Company, Philadelphia Plant, PA-51-1531, effective July 27, 1999, except for condition 7.

(11) Sunoco, Inc. (R&M), PA-1501/1517, for Plant ID: 1501 and 1517, effective August 1, 2000, except for conditions 1.A. (4) as it pertains to the H-600, H-601, H-602, H-1, and H-3 heaters; 1.A. (7)-(10); 1.A. (12) as it pertains to HTR 1H4; 1.A. (13) as it pertains to HTR PH2 and HTR PH7; 1.A. (15) as it pertains to HTR 11H2; 1.A. (16); 1.A. (18) as it pertains to HTR 2H1, HTR 2H6, and HTR 2H8; 1.A. (19); 1.A. (21); 1.A.(22); 2.B. as it pertains to Gas Oil HDS Unit 866: HTR 12H1; 2.E.; 2.L.; and condition 6.

(12) SBF Communication Graphics, PA-2197, for Plant ID: 2197, effective July 21, 2000.

(13) Smith-Edwards-Dunlap, Company, PA-2255, for Plant ID: 2255, effective July 14, 2000.

(14) Tasty Baking Co., PA-2054, for Plant ID: 2054, effective April 9, 1995.

(ii) Additional Materials—Other materials submitted by the Commonwealth of Pennsylvania in support of and pertaining to the sources listed in paragraph (c)(169)(I)(B) of this section.

[FR Doc. 01-22360 Filed 9-5-01; 8:45 am]

BILLING CODE 6560-50-P